CONSUMER PRODUCT SAFETY COMMISSION

Sunshine Act Meeting Notice

TIME AND DATE: Thursday, June 16, 2011, 9 a.m.-11.a.m.*

* The Commission unanimously determined by recorded vote that Agency business requires calling the meeting without seven calendar days advance public notice.

PLACE: Room 420, Bethesda Towers, 4330 East West Highway, Bethesda, Maryland.

STATUS: Commission Meeting—Open to the Public.

Matter To Be Considered

Briefing and Decisional Matter: Crib Rule—Compliance Date.

A live webcast of the Meeting can be viewed at http://www.cpsc.gov/webcast. For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: June 15, 2011.
Todd A. Stevenson,
Secretary.

[FR Doc. 2011-15306 Filed 6-15-11; 4:15 pm]

BILLING CODE 6355-01-P